SOCIAL SECURITY ADMINISTRATION

Rate for Attorney Fee Assessment Beginning in 2002

AGENCY: Social Security Administration (SSA).

ACTION: Withdrawal of notice.

SUMMARY: The Social Security Administration is withdrawing the Federal Register notice of January 3, 2002 at 67 FR 381 that announced the attorney-fee assessment rate under section 206(d) of the Social Security Act, 42 U.S.C. 406(d).

This Federal Register notice is being withdrawn because the signature line is incorrect. The Social Security Administration published a revised notice that appears in this issue of the Federal Register.

FOR FURTHER INFORMATION CONTACT: John B. Watson, Social Security Administration, Office of the General Counsel, Phone: (410) 965-3137, email: John.Watson@ssa.qov.

Dated: January 17, 2002.
Dale W. Sopper,
Acting Deputy Commissioner for Finance, Assessment and Management.

[FR Doc. 02-1724 Filed 1-22-02; 8:45 am]

BILLING CODE 4910-02-U